DEPARTMENT OF TRANSPORTATION

National Highway Traffic Safety Administration

[U.S. DOT Docket Number NHTSA-05-23401]

Office of Injury Control Operations & Resources; Reports, Forms, and Recordkeeping Requirements

AGENCY: National Highway Traffic Safety Administration (NHTSA), Department of Transportation.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatement of previously approved collections.

This document describes one collection of information for which NHTSA intends to seek OMB approval.

DATES: Comments must be received on or before March 6, 2006.

ADDRESSES: Comments must refer to the docket notice numbers cited at the beginning of this notice and be submitted to Docket Management, Room PL-401, 400 Seventh Street, SW., Washington, DC 20590. Please identify the proposed collection of information for which a comment is provided, by referencing its OMB clearance number. It is requested, but not required, that 2 copies of the comment be provided. The Docket Section is open on weekdays from 10 a.m. to 5 p.m.

FOR FURTHER INFORMATION CONTACT: Complete copies of each request for collection of information may be obtained at no charge from Ronald Filbert, NHTSA 400 Seventh Street, SW., 5125, NTI 200, Washington, DC 20590. Mr. Filbert's telephone number is (202) 366-2121. Please identify the relevant collection of information by referring to its OMB Control Number.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected;

(iv) How to minimize the burden of the collection of information on those who are to respond, including the use of appropriate automated, electronic, mechanical, or other technological collection techniques or other forms of information technology, e.g. permitting electronic submission of responses.

In compliance with these requirements, NHTSA asks for public comments on the following proposed collections of information:

Title: 23 CFR Part 1313 Certificate Requirements for Section 410 Alcohol Impaired Driving Countermeasures.

OMB Control Number: 2127-0501.

Affected Public: State Government.

Form Number: NA.

Abstract: On August 10, 2005, President Bush signed into law the Safe, Accountable, Flexible, Efficient Transportation Equity Act: A Legacy For Users (SAFETE-LU) (23 U.S.C. 410), which amended the criteria to qualify for the Alcohol Impaired Driving Countermeasures program. The purpose of the grant program is to promote highway traffic safety by providing incentives to reduce impaired driving. It provides grant funds to States that adopt certain measures to prevent drinking and driving or meet certain performance measures. The program provides for a grant to States that have an alcohol fatality rate of 0.5 or less per 100 million vehicle miles traveled as of the date of the grant based on the most recent Fatality Analysis Reporting Systems (FARS) of NHTSA or a State must comply with specific programmatic criteria. Additionally, a State will receive funding if it is among the ten States with the highest impaired driving related fatalities using the most recent FARS. States that qualify for funds based on FARS data will only have to submit a certification to receive grants. To establish eligibility for the grants under programmatic criteria, a State must submit to NHTSA documentation demonstrating that it complies with sufficient criteria described in the rule. Much of the information required for the 410 application is already generated by the States as part of the development of their Section 402 Highway Safety Plan (HSP) or other ongoing impaired driving programs. To keep the reporting burden on the States to a minimum, all States prepare and submit their Section 410 plans, that indicate how they intend to use the grant funds, as part of their existing HSP. The required Highway Safety Program Cost Summary Form HS 217, OMB Clearance Number 2127-0003, is currently used by the States to comply with other highway safety grant programs.

Estimated Annual Burden: 2-45 hours per respondent per year.

Number of Respondents: All 50 states and the District of Columbia.

Comments are invited on: whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Marlene Markison,
Associate Administrator, Office of Injury Control Operations & Resources.

[FR Doc. 06-37 Filed 1-3-06; 8:45 am]

BILLING CODE 4910-59-M